DEPARTMENT OF ENERGY

Federal Energy Regulatory Commission

Combined Notice of Filings #1

Take notice that the Commission received the following electric rate filings:

Docket Numbers: ER24-612-002.

Applicants: PJM Interconnection, L.L.C.

Description: Tariff Amendment: Amendment to Filing, WMPA SA No. 6597; Queue No. AF2-294 to be effective 2/7/2024.

Filed Date: 5/10/24.

Accession Number: 20240510-5117.

Comment Date: 5 p.m. ET 5/31/24.

Docket Numbers: ER24-1424-001.

Applicants: MidAmerican Energy Company.

Description: Tariff Amendment: Joint Pricing Zone Revenue Allocation Agreement (4th Rev)—Amendment to be effective 6/1/2024.

Filed Date: 5/10/24.

Accession Number: 20240510-5060.

Comment Date: 5 p.m. ET 5/31/24.

Docket Numbers: ER24-1987-000.

Applicants: PJM Interconnection, L.L.C.

Description: 205(d) Rate Filing: GDECS Revisions to PJM Tariff, OA & RAA, 5-Day Comment Period & Waiver to be effective 5/31/2024.

Filed Date: 5/10/24.

Accession Number: 20240510-5037.

Comment Date: 5 p.m. ET 5/17/24.

Docket Numbers: ER24-1988-000.

Applicants: PJM Interconnection, L.L.C.

Description: 205(d) Rate Filing: Revisions to RAA Definitions regarding Dual Fuel Class to be effective 7/10/2024.

Filed Date: 5/10/24.

Accession Number: 20240510-5074.

Comment Date: 5 p.m. ET 5/31/24.

Docket Numbers: ER24-1989-000.

Applicants: PJM Interconnection, L.L.C.

Description: 205(d) Rate Filing: Amendment to ISA, SA No. 6431; AE1-243 to be effective 7/10/2024.

Filed Date: 5/10/24.

Accession Number: 20240510-5088.

Comment Date: 5 p.m. ET 5/31/24.

Docket Numbers: ER24-1990-000.

Applicants: PJM Interconnection, L.L.C.

Description: 205(d) Rate Filing: Designated Entity Agreement, SA No. 7226 between PJM and PSEG RT to be effective 4/11/2024.

Filed Date: 5/10/24.

Accession Number: 20240510-5089.

Comment Date: 5 p.m. ET 5/31/24.

Docket Numbers: ER24-1991-000.

Applicants: ISO New England Inc.

Description: ISO New England Inc. Submits Capital Budget Quarterly Filing for First Quarter of 2024.

Filed Date: 5/10/24.

Accession Number: 20240510-5115.

Comment Date: 5 p.m. ET 5/31/24.

Docket Numbers: ER24-1992-000.

Applicants: PJM Interconnection, L.L.C.

Description: 205(d) Rate Filing: Original GIA, Service Agreement No. 7233; AG1-348 to be effective 4/10/2024.

Filed Date: 5/10/24.

Accession Number: 20240510-5114.

Comment Date: 5 p.m. ET 5/31/24.

Docket Numbers: ER24-1993-000.

Applicants: NorthWestern Corporation.

Description: Compliance filing: Order 2023 Compliance Filing—LGIP & SGIP to be effective 7/10/2024.

Filed Date: 5/10/24.

Accession Number: 20240510-5123.

Comment Date: 5 p.m. ET 5/31/24.

Docket Numbers: ER24-1994-000.

Applicants: Public Power (PA), LLC.

Description: Tariff Amendment: Cancellation entire tariff to be effective 5/11/2024.

Filed Date: 5/10/24.

Accession Number: 20240510-5134.

Comment Date: 5 p.m. ET 5/31/24.

Docket Numbers: ER24-1995-000.

Applicants: PJM Interconnection, L.L.C.

Description: 205(d) Rate Filing: Revisions to Tariff, Attachment L re: OVEC Legal Name to be effective 7/10/2024.

Filed Date: 5/10/24.

Accession Number: 20240510-5135.

Comment Date: 5 p.m. ET 5/31/24.

Docket Numbers: ER24-1996-000.

Applicants: PJM Interconnection, L.L.C.

Description: 205(d) Rate Filing: Revisions to CTOA re: OVEC Legal Name to be effective 7/10/2024.

Filed Date: 5/10/24.

Accession Number: 20240510-5155.

Comment Date: 5 p.m. ET 5/31/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 10, 2024.
Debbie-Anne A. Reese,
Acting Secretary.

[FR Doc. 2024-10805 Filed 5-16-24; 8:45 am]

BILLING CODE 6717-01-P